DEPARTMENT OF TRANSPORTATION

Federal Aviation Administration

[Docket No. FAA-2024-2216]

Agency Information Collection Activities: Requests for Comments; Clearance of Approval of Information Collection To Provide for the Amount of Aqueous Film Forming Foam (AFFF) Located at Part 139 Airports

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on December 13, 2024.

DATES: Written comments should be submitted by June 16, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Anthony Butters by email at: anthony.butters@faa.gov; phone: 202-267-9616

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120.

Title: Collection for Progress Reports related to the National Transition Plan for fluorine-free firefighting foam.

Form Numbers: N/A.

Type of Review: New information collection.

Background: The Federal Register Notice with a 60-day comment period soliciting comments on the following collection of information was published on December 13, 2024 (89 FR 101090).

The collection involves S.4319—A bill to provide for progress reports on the national transition plan related to a fluorine-free firefighting foam that requires that the FAA provide progress reports on the status of Part 139 airports transition to fluorine-free firefighting foam no later than 180 days after the date of enactment of this Act, and every 180 days thereafter until the progress report termination date. Within this report, a comprehensive list of the amount of AFFF at each part 139 airport has as of the date of the submission of the progress report, including the amount of such firefighting foam held in firefighting equipment and the number of gallons regularly kept in reserve at each such airport. These progress reports on the development and implementation of a national transition plan related to a fluorine-free firefighting foam that meets the performance standards referenced in Chapter 3—Agent Compatibility, Substitutions, and Performance Requirements of Advisory Circular 150/5210.6E—Aircraft Fire Extinguishing Agents for Airports (AC 150/5210.62) issued on November 27, 2023 shall be submitted to the appropriate committees of Congress.

Respondents: Approximately 517 airports.

Frequency: Information collected once.

Estimated Average Burden per Response: 3 hours.

Estimated Total Annual Burden: 1,554 hours.

Issued in Washington, DC, on May 12, 2025.
Anthony M. Butters,
Manager, Airport Safety and Policy Branch (AAS-310).

[FR Doc. 2025-08678 Filed 5-14-25; 8:45 am]

BILLING CODE 4910-13-P